DEPARTMENT OF THE INTERIOR

Bureau of Indian Affairs

[212A2100DD/AAKC001030/A0A501010.999900253G]

Bureau of Indian Education Waiver of State Assessments for 2020-2021 School Year

AGENCY: Bureau of Indian Affairs, Interior.

ACTION: Notice of Tribal consultation and public meetings.

SUMMARY: The Bureau of Indian Education (BIE) is considering requesting from the U.S. Department of Education (ED) a waiver of assessment requirements for the 2020-2021 School Year (SY) for the protection of the health and safety or students, staff, and their communities, which have been impacted by the COVID-19 pandemic. BIE's implementing regulations of the Elementary and Secondary Education Act of 1965 (ESEA) require BIE to administer unified assessments each SY.

DATES: Tribal consultation sessions will be held from 3 p.m. to 4 p.m. Eastern Time (ET), and public meetings will be held from 4 p.m. to 5 p.m. ET on May 4 and 5, 2021. Written comments must be received by 11:59 p.m. ET, May 7, 2021.

ADDRESSES: Please register in advance for each session using the following link: https://www.zoomgov.com/meeting/register/vJItcumgqjMvH9cg5ttOrsDY0KmZB1IuLJQ.

You will receive a confirmation email upon registration with directions for joining. Written comments may be emailed to consultation@bia.gov.

FOR FURTHER INFORMATION CONTACT: Dr. Tamarah Pfeiffer, Chief Academic Officer, Bureau of Indian Education; fax: (505) 563-3043 or email Tamarah.Pfeiffer@bie.edu.

SUPPLEMENTARY INFORMATION: The BIE is seeking Tribal input and public stakeholder input on whether to request from the U.S. Department of Education (ED) a waiver of BIE's unified assessments for the 2020-2021 School Year (SY). BIE's implementing regulations of the Elementary and Secondary Education Act of 1965 (ESEA), Public Law 89-10, as amended, require BIE to administer unified assessments each SY. Additionally, BIE is requesting recommendations regarding using U.S. Department of Education's assessment administration flexibilities issued on February 22, 2021. Should BIE extend testing into the summer or fall 2021 and/or shorten tests so that there is a less of an impact on instruction. The justifications for the requests include the need to protect the health and safety of the students, families, staff and Tribal communities.

BIE has invited Tribes by letter. BIE also welcomes input from families of students at BIE schools and other stakeholders. Please see the information in the DATES and ADDRESSES section of this notice for information on the public sessions and directions on joining.

Bryan Newland,
Principal Deputy Assistant Secretary—Indian Affairs.

[FR Doc. 2021-07847 Filed 4-15-21; 8:45 am]

BILLING CODE 4337-15-P